DEPARTMENT OF COMMERCE

International Trade Administration

[A-533-824]

Polyethylene Terephthalate Film, Sheet, and Strip From India: Preliminary Results and Partial Rescission of Antidumping Duty Administrative Review; 2015-2016

AGENCY: Enforcement and Compliance, International Trade Administration, U.S. Department of Commerce.

SUMMARY: The Department of Commerce (the Department) is conducting an administrative review of the antidumping duty (AD) order on polyethylene terephthalate film, sheet, and strip (PET Film) from India. The period of review (POR) is July 1, 2015, through June 30, 2016. The Department preliminarily determines that Jindal Poly Films Limited of India did, but that SRF Limited did not, make sales of subject merchandise at prices below normal value (NV) during the POR. The preliminary results are listed below in the section titled “Preliminary Results of Review.” Interested parties are invited to comment on these preliminary results.

DATES: Applicable August 7, 2017.

FOR FURTHER INFORMATION CONTACT: Jacqueline Arrowsmith; AD/CVD Operations, Office VII, Enforcement and Compliance, International Trade Administration, U.S. Department of Commerce, 1401 Constitution Avenue NW., Washington, DC 20230; telephone: (202) 482-5255.

SUPPLEMENTARY INFORMATION:

Scope of the Order

The products covered by this order are all gauges of raw, pretreated, or primed polyethylene terephthalate film, sheet and strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00.90. HTSUS subheadings are provided for convenience and customs purposes. The written description of the scope of the order is dispositive.

Background

DuPont Teijin Films, Mitsubishi Polyester Film Inc., and SKC, Inc. (the petitioners) requested reviews of Ester Industries Limited (Ester), Garware Polyester Ltd. (Garware), Polyplex Corporation Ltd. (Polyplex Ltd.), SRF Limited (SRF), Jindal Poly Films Limited of lndia (Jindal),¹ and Vacmet.² Polyplex USA and Flex USA requested reviews of SRF, Jindal, Garware, Ester, MTZ Polyesters Ltd. (MTZ), Vacmet India Limited, Uflex Ltd. and Polyplex Ltd.³ Jindal and SRF each self-requested.⁴ Based on these timely requests, the Department initiated a review of ten companies in this proceeding.⁵

¹ On May 23, 2017, the Department sent Jindal Poly Films Ltd. (India) a supplemental questionnaire requesting clarification of its name. See Department Letter re: Jindal Poly Films Ltd. (India)'s Name, dated May 23, 2017. Based on Jindal Poly Films Ltd. (India)'s response, we have determined that it is the same company as Jindal Poly Films of India. See Jindal Poly Films Ltd. (India)'s May 25, 2017 Response. Accordingly, Jindal Poly Films Ltd. (India) and Jindal Poly Films of India will be referred to as “Jindal” for the remainder of this notice.

² See Petitioners' Letter, “Polyethylene Terephthalate (PET) Film, Sheet, and Strip from India: Request for Antidumping Duty Administrative Review,” dated August 1, 2016.

³ See Polyplex USA and Flex USA's Letter, “Request for Administrative Review,” dated July 29, 2016.

⁴ See Jindal Poly Films Ltd. (India)'s Letter, “Polyethylene Terephthalate (PET) Film from India: Requests for Administrative Review of the Antidumping Duty Order and Countervailing Duty Order,” dated July 29, 2016; see also SRF Limited of India's Letter, “Polyethylene Terephthalate (PET) Film from India/Request for Antidumping Admin Review/SRF Limited,” dated July 30, 2016; see also SRF's Letter, “Polyethylene Terephthalate (PET) Film from India/Withdrawal of Request for Antidumping Admin Review/SRF Limited,” dated December 9, 2016.

⁵ These companies were Ester, Garware, Jindal Poly Films Limited of India, Jindal Poly Films Ltd. (India), MTZ, Polyplex Corporation, SRF, Uflex Ltd., Vacmet, and Vacmet India Limited. See Initiation of Antidumping and Countervailing Duty Administrative Reviews, 81 FR 62720, (September 12, 2016) (Initiation Notice).

On November 2, 2016, the Department selected Jindal and SRF as mandatory respondents.⁶ On December 9, 2016, Jindal and SRF each separately withdrew their self-requests for review.⁷ On December 12, 2016, the petitioners withdrew their requests for Ester, Garware, Polyplex and Vacmet.⁸ Also on December 12, 2016, Polyplex USA and Flex USA withdrew their requests for SRF, Jindal, Garware, Ester, MTZ, Vacmet India Limited, Uflex Ltd., and Polyplex Corporation.⁹

⁶ See Memorandum, “Administrative Review of the Antidumping Duty Order on Polyethylene Terephthalate Film, Sheet, and Strip from India: Selection of Respondents for Individual Examination,” dated November 2, 2016.

⁷ See Jindal's Letter, “Polyethylene Terephthalate (PET) Film from India: Withdrawal of Requests for Administrative Review of the Antidumping Duty Order and Countervailing Duty Order,” dated December 9, 2016; see also SRF's Letter, “Polyethylene Terephthalate (PET) Film from India/Withdrawal of Request for Antidumping Admin Review/SRF Limited,” dated December 9, 2016.

⁸ See Petitioners' Letter, “Polyethylene Terephthalate (PET) Film, Sheet, and Strip from India: Withdrawal of Request for Antidumping Duty Administrative Review,” dated December 12, 2016.

⁹ See Polyplex's Letter, “Polyethylene Terephthalate (PET) Film, Sheet, and Strip from India: Request for Withdrawal of Administrative Review,” dated December 12, 2016.

Partial Rescission of Administrative Review

Pursuant to 19 CFR 351.213(d)(1), based on the timely withdrawal of the requests for review, we are rescinding this administrative review with respect to the following companies named in the Initiation Notice: Ester, Garware, MTZ, Polyplex Ltd., Uflex Ltd., Vacmet, and Vacmet India Limited.

Methodology

The Department is conducting this review in accordance with section 751(a)(2) of the Tariff Act of 1930, as amended (the Act). Export price is calculated in accordance with section 772 of the Act. NV is calculated in accordance with section 773 of the Act.

For a full description of the methodology underlying our conclusions, see the Preliminary Decision Memorandum. A list of topics discussed in the Preliminary Decision Memorandum is attached as an Appendix to this notice.

The Preliminary Decision Memorandum is a public document and is on file electronically via Enforcement and Compliance's Antidumping and Countervailing Duty Centralized Electronic Service System (ACCESS). ACCESS is available to registered users at https://access.trade.gov/login.aspx and it is available to all parties in the Central Records Unit, Room B8024 of the main Department of Commerce building. In addition, a complete version of the Preliminary Decision Memorandum can be accessed directly on the Internet at http://enforcement.trade.gov/frn/. The signed Preliminary Decision Memorandum and the electronic versions of the Preliminary Decision Memorandum are identical in content.

Preliminary Results of Review

As a result of this review, we preliminarily determine the following weighted-average dumping margins for the period July 1, 2015, through June 30, 2016.

¹⁰ The Initiation Notice also lists the company as Jindal Poly Films Ltd. (India). As noted in Decision Memoranda, dated concurrently with this notice, the Department has determined that Jindal Poly Films Limited of India is the same company as Jindal Poly Films Ltd. (India).

Manufacturer/exporter | Weighted-average dumping margins (percent)
Jindal Poly Films Limited of India ¹⁰ | 2.34
SRF Limited | 0.00

Disclosure and Public Comment

The Department will disclose to interested parties the calculations performed in connection with these preliminary results within five days of the date of publication of this notice.¹¹ Pursuant to 19 CFR 351.309(c), interested parties may submit cases briefs no later than 30 days after the date of publication of this notice.¹² Rebuttal briefs, limited to issues raised in the case briefs, may be filed not later than five days after the date for filing case briefs.¹³ Parties who submit case briefs or rebuttal briefs in this proceeding are encouraged to submit with each argument: (1) A statement of the issue; (2) a brief summary of the argument; and (3) a table of authorities.¹⁴ Case and rebuttal briefs should be filed using the Department's electronic filing system, ACCESS.¹⁵ In order to be properly filed, ACCESS must successfully receive an electronically-filed document in its entirety by 5:00 p.m. Eastern Time.

¹¹ See 19 CFR 351.224(b).

¹² See 19 CFR 351.309(c)(ii).

¹³ See 19 CFR 351.309(d).

¹⁴ See 19 CFR 351.309(c)(2) and (d)(2).

¹⁵ See 19 CFR 351.303.

Pursuant to 19 CFR 351.310(c), interested parties who wish to request a hearing must submit a written request to the Assistant Secretary for Enforcement and Compliance, filed electronically via ACCESS, within 30 days after the date of publication of this notice.¹⁶ Requests should contain: (1) The party's name, address, and telephone number; (2) the number of participants; and (3) a list of issues to be discussed. Issues raised in the hearing will be limited to those raised in the respective case briefs. If a request for a hearing is made, parties will be notified of the time and date for the hearing to be held at the U.S. Department of Commerce, 1401 Constitution Avenue NW., Washington, DC 20230.¹⁷

¹⁶ See 19 CFR 351.310(c).

¹⁷ See 19 CFR 351.310(d).

The Department will issue the results of this administrative review, including the results of its analysis of the issues raised in any written briefs, not later than 120 days after the date of publication of this notice in the Federal Register, pursuant to section 751(a)(3)(A) of the Act, unless that time is extended.

Assessment Rates

Upon completion of the administrative review, the Department shall determine, and U.S. Customs and Border Protection (CBP) shall assess, antidumping duties on all appropriate entries in accordance with 19 CFR 351.212(b)(1). We will instruct CBP to liquidate entries of merchandise produced and/or exported by respondent companies. We intend to issue instructions to CBP 15 days after the date of publication of the results of this review.

For the individually examined respondents Jindal and SRF, if the weighted-average dumping margins are not zero or de minimis (i.e., less than 0.5 percent) in the final results of this review, we will calculate importer-specific (or customer-specific) ad valorem assessment rates on the basis of the ratio of the total amount of dumping calculated for the importer's examined sales and the total entered value of the sales in accordance with 19 CFR 351.212(b)(1). However, where the respondent did not report the entered value for its sales, we will calculate importer-specific (or customer-specific) per-unit duty assessment rates. Where a respondent's weighted-average dumping margin is zero or de minimis, or an importer-specific assessment rate is zero or de minimis, we will instruct CBP to liquidate the appropriate entries without regard to antidumping duties.

Cash Deposit Requirements

The following cash deposit requirements will be effective for all shipments of PET Film from India entered, or withdrawn from warehouse, for consumption on or after the date of publication of the final results of this administrative review, as provided for by section 751(a)(2)(C) of the Act: (1) The cash deposit rate for the company under review will be the rate established in the final results of this review (except, if the rate is zero or de minimis, i.e., less than 0.5 percent, no cash deposit will be required); (2) for previously reviewed or investigated companies not listed above, the cash deposit rate will continue to be the company-specific rate published for the most recent period; (3) if the exporter is not a firm covered in this review, a prior review, or the less-than-fair-value investigation, but the manufacturer is, the cash deposit rate will be the rate established for the most recent period for the manufacturer of the merchandise; and (4) if neither the exporter nor the manufacturer is a firm covered in this or any previous review, the cash deposit rate will be the all others rate for this proceeding, 5.71 percent. These deposit requirements, when imposed, shall remain in effect until further notice.

Notification to Interested Parties

This notice also serves as a preliminary reminder to importers of their responsibility under 19 CFR 351.402(f)(2) to file a certificate regarding the reimbursement of antidumping duties and/or countervailing duties prior to liquidation of the relevant entries during this POR. Failure to comply with this requirement could result in the Secretary's presumption that reimbursement of antidumping duties and/or countervailing duties occurred and the subsequent assessment of doubled antidumping duties.

We are issuing and publishing these results in accordance with sections 751(a)(1) and 777(i)(1) of the Act and 19 CFR 351.213(h)(1) and 351.221(b)(4).

Dated: July 31, 2017.
Gary Taverman,
Deputy Assistant Secretary for Antidumping and Countervailing Duty Operations, performing the non-exclusive functions and duties of the Assistant Secretary for Enforcement and Compliance.

Appendix—List of Topics Discussed in the Preliminary Decision Memorandum

1. Summary

2. Background

3. Partial Rescission

4. Scope of the Order

5. Comparisons to Normal Value

6. Product Comparisons

7. Date of Sale

8. Export Price

9. Normal Value

10. Currency Conversion

11. Recommendation

[FR Doc. 2017-16501 Filed 8-4-17; 8:45 am]

BILLING CODE 3510-DS-P